DEPARTMENT OF ENERGY

International Energy Agency Meetings

AGENCY: Department of Energy.

ACTION: Notice of meetings.

SUMMARY: The Industry Advisory Board (IAB) to the International Energy Agency (IEA) will meet on March 20-21, 2017, at the Conference Centre of the French Ministry of Foreign Affairs, 27, Rue de la Convention, 75015 Paris, France, in connection with a joint meeting of the IEA's Standing Group on Emergency Questions (SEQ) and the IEA's Standing Group on the Oil Market (SOM) on March 20, 2017, in connection with a meeting of the SEQ on that day and on March 21, 2017.

DATES: March 20-21, 2017.

ADDRESSES: 27, Rue de la Convention, 75015 Paris, France.

FOR FURTHER INFORMATION CONTACT: Thomas Reilly, Assistant General Counsel for International and National Security Programs, Department of Energy, 1000 Independence Avenue SW., Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the Conference Centre of the French Ministry of Foreign Affairs, 27, Rue de la Convention, 75015 Paris, France, commencing at 09:45 a.m. on March 20, 2017. The purpose of this notice is to permit attendance by representatives of U.S. company members of the IAB at a joint meeting of the IEA's Standing Group on Emergency Questions (SEQ) and the IEA's Standing Group on the Oil Market (SOM), which is scheduled to be held at the same location and time.

The agenda of the meeting is under the control of the SEQ and the SOM. It is expected that the SEQ and the SOM will adopt the following agenda:

Draft Agenda of the Joint Session of the SEQ and the SOM to be held at the Conference Centre of the French Ministry of Foreign Affairs, 27, Rue de la Convention, 75015 Paris, France, 20 March 2017, beginning at 09:45

Welcome/Introduction

1. Adoption of the Agenda

2. Approval of Summary Record of 27 September 2016

3. Reports on Recent Oil Market and Policy Developments in IEA Countries

4. The Current Oil Market Situation: “Oil Market Report 2017” followed by Q & A

5. Presentation: “The Major Price Benchmarks and the Impact of OPEC's Output Reductions” followed by Q&A

6. Presentation: ”Marine Fuels: Meeting the IMO Challenge in 2020” followed by Q&A

7. Presentation: “Geopolitical Implications of Lower Oil Prices” followed by Q & A

8. Presentation: “Russia's Liquids Production at Record Levels: Drivers and Prospects” followed by Q&A

9. Presentation: “Trends in the Refining Sector” followed by Q&A

10. Presentation: “TBC” followed by Q&A

11. Other Business

—Tentative schedule of SEQ and SOM meetings on: 13-15 June 2017, location TBC

A meeting of the Industry Advisory Board (IAB) to the International Energy Agency (IEA) will be held at the Centre de Conférence Ministériel of the French Ministry of Foreign Affairs Building, 27, Rue de la Convention, 75015 Paris, France, commencing at 9:30 a.m. on March 21, 2017. The purpose of this notice is to permit attendance by representatives of U.S. company members of the IAB at a meeting of the IEA's Standing Group on Emergency Questions (SEQ), which is scheduled to be held at the same location and time. The IAB will also hold a preparatory meeting among company representatives at the same location at 8:30 a.m. on March 21. The agenda for this preparatory meeting is to review the agenda for the SEQ meeting.

The agenda of the SEQ meeting is under the control of the SEQ. It is expected that the SEQ will adopt the following agenda:

Draft Agenda of the 150th Meeting of the SEQ to be held at the Centre de Conférence Ministériel of the French Ministry of Foreign Affairs Building, 27, Rue de la Convention, 75015 Paris, France, 21 March 2017, beginning at 9:30 a.m.

12. Adoption of the Agenda

13. Approval of the Summary Record of the 149th Meeting

14. Status of Compliance with IEP Agreement Stockholding Obligations

15. Australian Compliance Update

16. Bilateral Stockholding in non-OECD Countries—update

17. Association—“Oil Umbrella” concept

18. Future of IDR/ERR Programme

19. Mexican Accession Update

20. Emergency Response Review of Finland

21. Mid-term Review of the Czech Republic

22. Emergency Response Review of Sweden

23. Mid-term Review of Ireland

24. Industry Advisory Board Update

25. Emergency Response Review of Germany

26. Mid-term Review of Luxembourg

27. ERE8 and EXSEQ Outcomes

28. Other Activities

29. Oral Reports by Administrations

30. Other Business

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 6, 2017.
Thomas Reilly,
Assistant General Counsel for International and National Security Programs.

[FR Doc. 2017-04746 Filed 3-9-17; 8:45 am]

BILLING CODE 6450-01-P